RAILROAD RETIREMENT BOARD

Sunshine Act Meetings

Federal Register CITATION OF PREVIOUS ANNOUNCEMENT: FR Doc. 2020-04861 Filed 3-5-20; 4:15 p.m.

PREVIOUSLY ANNOUNCED TIME AND DATE OF THE MEETING: 10:00 a.m., March 18, 2020.

CHANGES IN THE MEETING: This meeting has been cancelled.

CONTACT PERSON FOR MORE INFORMATION: Stephanie Hillyard, Secretary to the Board, Phone No. 312-751-4920.

Dated: March 13, 2020.
Stephanie Hillyard,
Secretary to the Board.

[FR Doc. 2020-05702 Filed 3-16-20; 11:15 am]

BILLING CODE 7905-01-P